DEPARTMENT OF COMMERCE

National Oceanic and Atmospheric Administration

50 CFR Part 679

[Docket No. 000623193-0193-01; I.D. 111899B, 060800D]

Fisheries of the Exclusive Economic Zone Off Alaska; Bering Sea and Aleutian Islands; Final 2000 Harvest Specifications for Groundfish; Correction

AGENCY: National Marine Fisheries Service (NMFS), National Oceanic and Atmospheric Administration (NOAA), Commerce.

ACTION: Final 2000 harvest specifications; correction.

SUMMARY: This document corrects table 3 of the allocations of the pollock total allowable catch and directed fishing allowance to the inshore, catcher/processor, mothership, and community development quota components and table 7 of the final 2000 prohibited species catch (PSC) allowances specified for trawl groundfish fisheries of the Bering Sea and Aleutian Islands (BSAI).

DATES: Correction to table 3 is effective February 15, 2000, through 2400 hrs A.l.t. December 31, 2000, and correction to table 7 is effective June 15, 2000, through 2400 hrs A.l.t. December 31, 2000.

FOR FURTHER INFORMATION CONTACT: Andrew N. Smoker, 907-586-7228.

SUPPLEMENTARY INFORMATION: This document contains corrections to the final 2000 PSC allowances specified for trawl groundfish fisheries of the BSAI..

The Final 2000 Harvest Specifications for Groundfish (65 FR 8282, February 18, 2000) as amended (65 FR 42302, July 10, 2000; 65 FR 56502, September 10, 2000) established PSC allowances under regulations implementing Amendment 57 to the Fishery Management Plan for the Groundfish Fishery of the Bering Sea and Aleutian Islands Area (FR 65 31105, May 16, 2000). The 2000 Pacific halibut and crab PSC limits for the BSAI trawl fisheries were reduced to the following amounts: Pacific halibut, 3,675 mt; Zone 1 red king crab, 97,000 animals; Chionoecetes(C.) opilio, 4,350,000 animals; C. bairdi Zone 1,830,000; and C. bairdi Zone 2, 2,520,000 animals.

Correction

1. In the Final 2000 Harvest Specifications for Groundfish, Fisheries of the Exclusive Economic Zone Off Alaska; published on February 18, 2000 (65 FR 8282), FR Doc. 00-3912, mathematical errors were made in table 3.

Table 3 is corrected to read as follows:

Table 3 to Part 679—[Corrected]

In the second column, under the heading, “2000 DFA”, the eighth entry “1,848” that corresponds with “Restricted C/P cap⁵”, is corrected to read “1,948”. In the sixth column, under the heading “C/D DFA”, the seventh entry “1,069” is corrected to read “1,169”.

2. In the document, 2000 harvest specifications; technical amendment, published on July 10, 2000 (65 FR 42302), FR Doc. 00-17269, on page 42303, an incorrect entry was made in Table 7. Table 7 is corrected to read as follows:

Table 7 to Part 679—[Corrected]

In the third column, under the heading, “Herring (mt) BSAI”,” the fourth entry, “22,665” that corresponds with “RKC Savings subarea³” is corrected to read “...............” and in the fourth column, under the heading “Red King Crab (animals) Zone 1” in the second blank entry, that corresponds with “RKC savings subarea³” is corrected to read “22,665”.

Dated: September 25, 2000.
William T. Hogarth,
Acting Assistant Administrator for Fisheries, National Marine Fisheries Service.

[FR Doc. 00-25041 Filed 9-28-00; 8:45 am]

BILLING CODE 3510-22-S